ENVIRONMENTAL PROTECTION AGENCY

40 CFR Parts 52 and 81

[Docket No. EPA-R02-OAR-2012-0889; FRL-9900-33-Region 2]

Approval and Promulgation of Air Quality Implementation Plans; State of New Jersey; Redesignation of Areas for Air Quality Planning Purposes and Approval of the Associated Maintenance Plan

AGENCY: Environmental Protection Agency (EPA).

ACTION: Final rule.

SUMMARY: On December 26, 2012 the New Jersey Department of Environmental Protection (NJDEP) submitted a request for the Environmental Protection Agency (EPA) to approve the redesignation of the New Jersey portion of the New York-N.New Jersey-Long Island, NY-NJ-CT nonattainment area, and the New Jersey portion of the Philadelphia-Wilmington, PA-NJ-DE nonattainment area, from nonattainment to attainment for the 1997 annual and the 2006 24-hour Fine Particle (PM2.5) National Ambient Air Quality Standards (NAAQS). In conjunction with its redesignation request, New Jersey submitted a State Implementation Plan (SIP) revision containing a maintenance plan for the areas that provides for continued maintenance of the 1997 annual and 2006 24-hour PM2.5 NAAQS. The submittals included the 2007 ammonia (NH3), volatile organic compounds (VOC), nitrogen oxides (NOX), direct PM2.5 and sulfur dioxide (SO2) emissions inventories submitted to meet the comprehensive emissions inventory requirements of section 172(c)(3) of the Clean Air Act (CAA), and accompanying motor vehicle emissions budgets. EPA is taking final action to approve the requested SIP revisions and to redesignate the New Jersey portions of the New York-N.New Jersey-Long Island, NY-NJ-CT nonattainment area, and the Philadelphia-Wilmington, PA-NJ-DE nonattainment area, to attainment for the 1997 annual and the 2006 24-hour PM2.5 NAAQS.

DATES: This rule is effective on September 4, 2013.

ADDRESSES: EPA has established a docket for this action under Docket ID Number EPA-R02-OAR-2012-0889. All documents in the docket are listed in the http://www.regulations.gov Web site. Although listed in the electronic docket, some information is not publicly available, i.e., confidential business information (CBI) or other information whose disclosure is restricted by statute. Certain other material, such as copyrighted material, is not placed on the Internet and will be publicly available only in hard copy form. Publicly available docket materials are available either electronically through http://www.regulations.gov or in hard copy for public inspection during normal business hours at the Air Programs Branch, U.S. Environmental Protection Agency, Region II, 290 Broadway, New York, New York 10007.

FOR FURTHER INFORMATION CONTACT: Kenneth Fradkin (fradkin.kenneth@epa.gov), Air Programs Branch, 290 Broadway, 25th Floor, New York, New York 10007-1866, (212) 637-4249.

SUPPLEMENTARY INFORMATION: Throughout this document whenever “we,” “us,” or “our” is used, we mean EPA.

Table of Contents

I. Background and Purpose

II. What comments did EPA receive on its proposal?

III. What is EPA's final action?

IV. Correction of Administrative Errors

V. Statutory and Executive Order Reviews

I. Background and Purpose

On December 26, 2012, the State of New Jersey, through NJDEP, submitted a request to redesignate the New Jersey portion of the New York-N.New Jersey-Long Island, NY-NJ-CT nonattainment area (“NY-NJ-CT nonattainment area”), and the New Jersey portion of the Philadelphia-Wilmington, PA-NJ-DE nonattainment area (“PA-NJ-DE nonattainment area”) from nonattainment to attainment for the 1997 annual and the 2006 24-hour PM2.5 NAAQS. Concurrently, NJDEP submitted a maintenance plan for the areas as a SIP revision to ensure continued attainment. In a supplemental submission to EPA on May 3, 2013, the State of New Jersey submitted NH3 and VOC emissions inventories to supplement the emissions inventories that had been submitted on December 26, 2012.

Specific details regarding EPA's analysis of New Jersey's SIP can be found in the proposed rulemaking published in the Federal Register (FR) on June 27, 2013 (78 FR 38648).

II. What comments did EPA receive on its proposal?

EPA received two comments in support of the proposal. No adverse comments were submitted.

III. What is EPA's final action?

EPA has evaluated New Jersey's redesignation request and determined that it meets the redesignation criteria set forth in the CAA, and is consistent with Agency regulations and policy. Therefore, EPA is taking several actions. EPA is approving New Jersey's request for the redesignation of the New Jersey portions of the NY-NJ-CT and PA-NJ-DE nonattainment areas from nonattainment to attainment for the 1997 PM2.5 annual and the 2006 PM2.5 24-hour NAAQS. We are approving New Jersey's maintenance plan for the New Jersey portions of the NY-NJ-CT and PA-NJ-DE nonattainment areas because it meets the requirements set forth in section 175A of the CAA. EPA is approving the 2007 NH3, VOC, NOX, direct PM2.5 and SO2 emissions inventories as meeting the comprehensive emissions inventory requirements of section 172(c)(3) of the CAA. Additionally, EPA is approving the 2009 and 2025 motor vehicle emissions budgets for PM2.5 and NOX.

In accordance with 5 U.S.C. 553(d), EPA finds there is good cause for this action to become effective immediately upon publication. A delayed effective date is unnecessary due to the nature of a redesignation to attainment, which eliminates CAA obligations that would otherwise apply. The immediate effective date for this action is authorized under both 5 U.S.C. 553(d)(1), which provides that rulemaking actions may become effective less than 30 days after publication if the rule “grants or recognizes an exemption or relieves a restriction,” and section 553(d)(3), which allows an effective date less than 30 days after publication “as otherwise provided by the agency for good cause found and published with the rule.” The purpose of the 30-day waiting period prescribed in section 553(d) is to give affected parties a reasonable time to adjust their behavior and prepare before the final rule takes effect. Today's rule, however, does not create any new regulatory requirements such that affected parties would need time to prepare before the rule takes effect. Rather, today's rule relieves New Jersey of the obligation to comply with nonattainment-related planning requirements for this PM2.5 Area pursuant to Part D of the CAA. For these reasons, EPA finds good cause under 5 U.S.C. 553(d) for this action to become effective on the date of publication of this rulemaking.

IV. Correction of Administrative Errors

At 78 FR 885, January 7, 2013, § 52.1602 was amended by adding new paragraph (e) Determination of Attainment. However, the amendment could not be incorporated into the Code of Federal Regulations (CFR) because paragraph (e) already existed. The amendment will be incorporated as paragraph (f) in the regulatory text as part of this final rule.

V. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

• In addition, this rule does not have tribal implications as specified by Executive Order 13175 (65 FR 67249, November 9, 2000), because the SIP is not approved to apply in Indian country located in the state, and EPA notes that it will not impose substantial direct costs on tribal governments or preempt tribal law.

List of Subjects

40 CFR Part 52

Environmental protection, Air pollution control, Incorporation by reference, Nitrogen dioxide, Particulate matter, Reporting and recordkeeping requirements, Sulfur oxides, Volatile organic compounds.

40 CFR Part 81

Environmental protection, Air pollution control.

Dated: August 13, 2013.
Judith A. Enck,
Regional Administrator, Region 2.

Part 52, chapter I, title 40 of the Code of Federal Regulations is amended as follows:

PART 52—[AMENDED]

1. The authority citation for part 52 continues to read as follows:

Authority: 42 U.S.C. 7401 et seq.

Subpart FF—New Jersey

2. Section 52.1602 is amended by adding new paragraphs (f), (g) and (h) to read as follows:

§ 52.1602 Control strategy and regulations: PM2.5.

* * * * *

(f) Determination of Attainment. EPA has determined, as of January 7, 2013, that based on 2008 to 2010 and 2009 to 2011 ambient air quality data, the Philadelphia-Wilmington, PA-NJ-DE fine particlulate (PM2.5) nonattainment area has attained the 2006 24-hour PM2.5 national ambient air quality standard (NAAQS). This determination suspends the requirements for the Philadelphia-Wilmington, PA-NJ-DE PM2.5 nonattainment area to submit an attainment demonstration, associated reasonably available control measures, a reasonable further progress plan, contingency measures, and other planning SIPs related to attainment of the standard for as long as this area continues to meet the 2006 24-hour PM2.5 NAAQS.

(g) Approval—The maintenance plan submitted on December 26, 2012, and supplemented on May 3, 2013, for the 1997 PM2.5 National Ambient Air Quality Standard and the 2006 PM2.5 National Ambient Air Quality Standard for the New Jersey portion of the New York-Northern New Jersey-Long Island, NY-NJ-CT, PM2.5 nonattainment area and the New Jersey portion of the Philadelphia-Wilmington, PA-NJ-DE, PM2.5 nonattainment area has been approved.

(1) The maintenance plan establishes 2009 motor vehicle emission budgets for the New Jersey portion of the New York-Northern New Jersey-Long Island, NY-NJ-CT, PM2.5 nonattainment area. The budgets were allocated by metropolitan planning organization as follows: North Jersey Transportation Planning Authority: 67,272 tons per year for NOX and 2,736 tons per year for PM2.5; Delaware Valley Regional Planning Commission (Mercer County): 5,835 tons per year for NOX and 224 tons per year for PM2.5.

(2) The maintenance plan establishes 2025 motor vehicle emission budgets for the New Jersey portion of the New York-Northern New Jersey-Long Island, NY-NJ-CT, PM2.5 nonattainment area. The budgets were allocated by metropolitan planning organization as follows: North Jersey Transportation Planning Authority: 25,437 tons per year for NOX and 1,509 tons per year for PM2.5; Delaware Valley Regional Planning Commission (Mercer County): 2,551 tons per year for NOX and 119 tons per year for PM2.5.

(3) The maintenance plan establishes 2009 motor vehicle emission budgets for the New Jersey portion of the Philadelphia-Wilmington, PA-NJ-DE, PM2.5 nonattainment area. The budgets were allocated by metropolitan planning organization as follows: Delaware Valley Regional Planning Commission (Burlington, Camden, and Gloucester Counties): 18,254 tons per year for NOX and 680 tons per year for PM2.5.

(4) The maintenance plan establishes 2025 motor vehicle emission budgets for the New Jersey portion of the Philadelphia-Wilmington, PA-NJ-DE, PM2.5 nonattainment area. The budgets were allocated by metropolitan planning organization as follows: Delaware Valley Regional Planning Commission (Burlington, Camden, and Gloucester Counties): 8,003 tons per year for NOX and 363 tons per year for PM2.5.

(h) Approval—The 2007 attainment year emissions inventory for the New Jersey portions of the New York-Northern New Jersey-Long Island, NY-NJ-CT, PM2.5 nonattainment area and the Philadelphia-Wilmington, PA-NJ-DE, PM2.5 nonattainment area consisting of NOX, VOC, NH3, directly emitted PM2.5, and SO2 emissions. This inventory satisfies the comprehensive emission inventory requirements of section 172(c)(3).

PART 81—[AMENDED]

3. The authority citation for part 81 continues to read as follows:

Authority: 42 U.S.C. 7401 et seq.

4. In § 81.331:

a. The table entitled “New Jersey—PM2.5 (Annual NAAQS)” is amended by revising the entries under “New York-N. New Jersey-Long Island, NY-NJ-CT” for “Bergen County”, “Essex County”, “Hudson County”, “Mercer County”, “Middlesex County”, “Monmouth County”, “Morris County”, “Passaic County”, “Somerset County”, and “Union County”, and under “Philadelphia-Wilmington, PA-NJ-DE” for “Burlington County”, “Camden County”, and “Gloucester County”.

b. The table entitled “New Jersey—PM2.5 [24-hour NAAQS]” is amended by revising the entries under “New York-N. New Jersey-Long Island, NY-NJ-CT” for “Bergen County”, “Essex County”, “Hudson County”, “Mercer County”, “Middlesex County”, “Monmouth County”, “Morris County”, “Passaic County”, “Somerset County”, and “Union County”, and under “Philadelphia-Wilmington, PA-NJ-DE” for “Burlington County”, “Camden County”, and “Gloucester County”.

The revisions read as follows:

§ 81.331 New Jersey.

* * * * *

New Jersey PM2.5
[Annual NAAQS]
Designated area | Designation ᵃ: Date ¹ | Designation ᵃ: Type
* * * * * * *
New York-N. New Jersey-Long Island, NY-NJ-CT:
Bergen County | 9-4-13 | Attainment.
Essex County | 9-4-13 | Attainment.
Hudson County | 9-4-13 | Attainment.
Mercer County | 9-4-13 | Attainment.
Middlesex County | 9-4-13 | Attainment.
Monmouth County | 9-4-13 | Attainment.
Morris County | 9-4-13 | Attainment.
Passaic County | 9-4-13 | Attainment.
Somerset County | 9-4-13 | Attainment.
Union County | 9-4-13 | Attainment.
Philadelphia-Wilmington, PA-NJ-DE:
Burlington County | 9-4-13 | Attainment.
Camden County | 9-4-13 | Attainment.
Gloucester County | 9-4-13 | Attainment.
* * * * * * *
ᵃ Includes Indian Country located in each county or area, except as otherwise specified.
¹ This date is 90 days after January 5, 2005, unless otherwise noted.

New Jersey PM2.5
[24-hour NAAQS]
Designated area | Designation for the 1997 NAAQS ᵃ: Date ¹ | Designation for the 1997 NAAQS ᵃ: Type | Designation for the 2006 NAAQS ᵃ: Date ² | Designation for the 2006 NAAQS ᵃ: Type
* * * * * * *
New York-N. New Jersey-Long Island, NY-NJ-CT:
Bergen County |  | Unclassifiable/Attainment | 9-4-13 | Attainment.
Essex County |  | Unclassifiable/Attainment | 9-4-13 | Attainment.
Hudson County |  | Unclassifiable/Attainment | 9-4-13 | Attainment.
Mercer County |  | Unclassifiable/Attainment | 9-4-13 | Attainment.
Middlesex County |  | Unclassifiable/Attainment | 9-4-13 | Attainment.
Monmouth County |  | Unclassifiable/Attainment | 9-4-13 | Attainment.
Morris County |  | Unclassifiable/Attainment | 9-4-13 | Attainment.
Passaic County |  | Unclassifiable/Attainment | 9-4-13 | Attainment.
Somerset County |  | Unclassifiable/Attainment | 9-4-13 | Attainment.
Union County |  | Unclassifiable/Attainment | 9-4-13 | Attainment.
Philadelphia-Wilmington, PA-NJ-DE:
Burlington County |  | Unclassifiable/Attainment | 9-4-13 | Attainment.
Camden County |  | Unclassifiable/Attainment | 9-4-13 | Attainment.
Gloucester County |  | Unclassifiable/Attainment | 9-4-13 | Attainment.
* * * * * * *
ᵃ Includes Indian Country located in each county or area, except as otherwise specified.
¹ This date is 90 days after January 5, 2005, unless otherwise noted.
² This date is 30 days after November 13, 2009, unless otherwise noted.

* * * * *

[FR Doc. 2013-21016 Filed 9-3-13; 8:45 am]

BILLING CODE 6560-50-P